DEPARTMENT OF DEFENSE

Department of the Air Force

[Docket ID: USAF-2022-HQ-0007]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by November 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: SDDC Transportation Financial Management System Access Request; SDDC Form 417; OMB Control Number 0704-0587.

Type of Request: Revision.

Number of Respondents: 993.

Responses per Respondent: 1.

Annual Responses: 993.

Average Burden per Response: 25 minutes.

Annual Burden Hours: 414.

Needs and Uses: The information collection requirement is necessary to establish Human Resource accounts within the Transportation Financial Management System (TFMS) for the Military Surface Deployment and Distribution Command (SDDC). The information is used to establish and control user accounts in TFMS and Oracle Business Intelligence Enterprise Edition, and to authenticate Transportation Enhanced Access Management Service access. Respondents are new employees that will be paid through the Defense Civilian Pay System, travelers that will be reimbursed using the SDDC line of accounting, or anyone requiring access to the accounting system to enter data or query exiting data. They are responding to the information collection to ensure they receive pay and benefits or to gain access to the accounting system as part of their assigned duties.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 24, 2022.
Kayyonne T. Marston,
Alternate OSD Federal Register Liaison Officer, Department of Defense.

[FR Doc. 2022-23438 Filed 10-26-22; 8:45 am]

BILLING CODE 5001-06-P